DEPARTMENT OF HEALTH AND HUMAN SERVICES

Office of the Secretary

Office of the Assistant Secretary for Planning and Evaluation; Request for Comments on the Departmental FY 2010-2015 Strategic Plan

AGENCY: Office of the Secretary, Health and Human Services.

ACTION: Request for Comments on the Draft Strategic Plan FY 2010-2015.

SUMMARY: The Department of Health and Human Services (HHS) is seeking public comment on its draft Strategic Plan for fiscal years 2010-2015.

DATES: Submit comments on or before August 14.

ADDRESSES: Written comments can be provided online, or by e-mail, fax or U.S. mail.

E-mail: HHSStrategicPlan@hhs.gov.

Fax: (202) 690-8252.

Mail: U.S. Department of Health and Human Services, Office of the Assistant Secretary for Planning and Evaluation, Office of Planning and Policy Support, Attn: Strategic Plan Comments, 200 Independence Avenue, SW., Room 408B, Washington, DC 20201.

FOR FURTHER INFORMATION CONTACT: Audrey Mirsky-Ashby, (202) 401-6640.

SUPPLEMENTARY INFORMATION: The Department of Health and Human Services Draft FY 2010-2015 Strategic Plan is provided as part of the strategic planning process under the Government Performance and Results Act (GPRA) to ensure that Agency stakeholders are given an opportunity to comment on this plan.

This document integrates the Department's mission into a presentation of performance goals under four strategic goals. These five strategic goals are (1) Transform Health Care, (2) Advance Scientific Knowledge and Innovation, (3) Advance the Health, Safety, and Well-Being of the American People, (4) Increase Efficiency, Transparency, and Accountability of HHS Programs, and (5) Strengthen the Nation's Health and Human Services Infrastructure and Workforce.

The strategic planning process is an opportunity for the Department to further refine and strengthen the strategic goal structure currently in place. For comparison purposes, the current HHS Strategic Plan FY 2007-2012 can be viewed at http://aspe.hhs.gov/hhsplan/.

The Department has made significant progress in its strategic and performance planning efforts. As we build on this progress we look forward to receiving your comments by August 14. The text of the draft strategic plan is available in a “pdf” downloadable format through the Department of Health and Human Services Web site: http://www.hhs.gov/open/.

For those who may not have Internet access, a hard copy can be requested from the contact point, Audrey Mirsky-Ashby, 202-401-6640.

Dated: July 21, 2010.
Sherry Glied,
Assistant Secretary for Planning and Evaluation.

[FR Doc. 2010-18547 Filed 7-27-10; 8:45 am]

BILLING CODE 4151-05-P